DEPARTMENT OF DEFENSE

Department of the Army

Board of Visitors, Defense Language Institute Foreign Language Center

AGENCY: Department of the Army, DoD.

ACTION: Notice of open meeting.

SUMMARY: In accordance with Section 10(a)(2) of the Federal Advisory Committee Act (Pub. L. 92-463), announcement is made of the following committee meeting:

Name of Committee: Board of Visitors, Defense Language Institute Foreign Language Center, Subcommittee of the Army Education Advisory Committee.

Date: June 18-19, 2008.

Place of Meeting: Defense Language Institute Foreign Language Center and Presidio of Monterey (DLIFLC & POM), Weckerling Center and Building 614, Conference Room, Monterey, CA 93944.

Time of Meeting: Approximately 8 a.m. through 4:30 p.m.

Board Mission: The DLIFLC Board of Visitors (BoV) is governed by the Federal Advisory Committee Act (FACA) of 1972, as amended, and is a subcommittee of the Army Education Advisory Committee (AEAC). The purpose of the DLIFLC BoV is to provide the Commandant, through the Army Education Advisory Committee, with advice on matters related to the Institute's mission, specifically: academic policies, staff and faculty development, student success indicators, curricula, educational methodology and objectives, program effectiveness, instructional methods, research, and academic administration.

Board Membership: The Board is composed of 10 members.

FOR FURTHER INFORMATION CONTACT: Dr. Robert Savukinas, ATFL-APO-AR, Monterey, CA 93944, Robert.Savukinas@us.army.mil, (831) 242-5828.

SUPPLEMENTARY INFORMATION: Proposed Agenda: The Defense Language Institute Board of Visitors will receive briefings and information on how DLIFLC teaches area studies and integrates culture into teaching and learning. The Board will meet with students and faculty. The Board will deliberate findings and forward recommendations. All proceedings are open to the public. Advance notice of five (5) working days is required to observe the meeting. Please contact Dr. Savukinas (above) for further instructions.

Public Inquiry at Board Meetings: Any member of the public is permitted to file a written statement with the DLIFLC Board of Visitors. Written statements should be sent to the Board Designated Federal Officer (DFO) at ATFL-APO-AR, Monterey, CA 93944 or faxed to (831) 242-5146. Written statements must be received no later than five (5) working days prior to the next meeting in order to provide time for member consideration.

By rule, no member of the public attending open meetings will be allowed to present questions from the floor or speak to any issue under consideration by the Board.

Brenda S. Bowen,
Army Federal Register Liaison Officer.

[FR Doc. E8-12109 Filed 5-30-08; 8:45 am]

BILLING CODE 3710-08-P